DEPARTMENT OF VETERANS AFFAIRS

[OMB Control No. 2900-New (VA Form 10-0529a-f)]

Agency Information Collection: Emergency Submission for OMB Review (PACT Demo Lab, Clinical Innovation Study: Implementation of a Patient Centered Medical Home for OEF/OIF Veterans With PTSD: Bridging Primary and Behavioral Health Care); Comment Request

AGENCY: Veterans Health Administration, Department of Veterans Affairs.

ACTION: Notice.

SUMMARY: In compliance with the Paperwork Reduction Act (PRA) of 1995 (44 U.S.C., 3501-3521), this notice announces that the Department of Veterans Affairs (VA), will submit to the Office of Management and Budget (OMB) the following emergency proposal for the collection of information under the provisions of the Paperwork Reduction Act (44 U.S.C. 3507(j)(1)). An emergency clearance is being requested for information needed to develop and evaluate a patient-centered model of care for OEF/OIF veterans with PTSD.

DATES: Comments must be submitted on or before September 6, 2012.

ADDRESSES: Send comments and recommendations concerning any aspect of the information collection to VA's OMB Desk Officer, OMB Human Resources and Housing Branch, New Executive Office Building, Room 10235, Washington, DC 20503 (202) 395-7316 or FAX (202) 395-6974. Please refer to “2900-New (VA Form 10-0529a-f).

FOR FURTHER INFORMATION CONTACT: Denise McLamb, Enterprise Records Service (005R1B), Department of Veterans Affairs, 810 Vermont Avenue NW, Washington, DC 20420, (202) 632-7479, Fax (202) 632-7583 or email: denise.mclamb@va.gov. Please refer to “OMB Control No. 2900-New VA Form (10-0529a-f).

SUPPLEMENTARY INFORMATION: Titles: PACT Demo Lab, Clinical Innovation Study: Implementation of a Patient Centered Medical Home for OEF/OIF Veterans with PTSD: Bridging Primary and Behavioral Health Care.

a. SF 12, Questionnaire, VA Form 10-0529.

b. (Patient Health Questionnaire-9 (PHQ-9), VA Form 10-0529a.

c. PTSD Checklist (PCL), VA Form 10-0529Bb.

d. Patient Satisfaction Questionnaire- Short Form (PSQ-18), VA Form 10-0529c.

e. Combat Exposure Scale (CES), VA Form 10-0529d.

f. World Health Organization Quality of Life (WHOQOL-BREF), VA Form 10-0529e.

g. World Health Organization Disability Assessment Schedule II (WHODAS-II), VA Form 10-0529f.

OMB Control Number: 2900-New.

Type of Review: New data collection.

The data collected on VA Forms 10-0529a-f will be used to develop and evaluate a patient-centered model of care for OEF/OIF Veterans with PTSD. The forms will be used to survey the effectiveness of the patient centered medical home model by enhancing the conventional care currently provided in the care of patients with PTSD.

Affected Public: Individuals or households.

Estimated Annual Burden: 420.

Frequency of Response: Annually.

Estimated Average Burden per Respondent: 10 minutes.

Estimated Number of Respondents: 840.

Estimated Number of Responses: 2,520.

Dated: August 21, 2012.
By direction of the Secretary.
Denise McLamb,
Program Analyst Director, Enterprise Records Service.

[FR Doc. 2012-20916 Filed 8-24-12; 8:45 am]

BILLING CODE 8320-01-P